DEPARTMENT OF HOMELAND SECURITY

Transportation Security Administration

[Docket No. TSA-2004-19147]

Intent To Request Extension From OMB of One Current Public Collection of Information: Flight Training for Aliens and Other Designated Individuals; Security Awareness Training for Flight School Employees

AGENCY: Transportation Security Administration, DHS.

ACTION: 60-Day notice.

SUMMARY: The Transportation Security Administration (TSA) invites public comment on one currently approved Information Collection Request (ICR), Office of Management and Budget (OMB) control number 1652-0021, abstracted below, that we will submit to OMB for an extension in compliance with the Paperwork Reduction Act (PRA). The ICR describes the nature of the information collection and its expected burden. The collection involves information necessary to conduct security threat assessments for all aliens and other designated individuals seeking flight instruction (“candidates”) from Federal Aviation Administration (FAA)-certified flight training providers. Pursuant to statute, TSA will use the information collected to determine whether a candidate poses or is suspected of posing a threat to aviation or national security, and thus prohibited from receiving flight training. Additionally, flight training providers are required to conduct a security awareness training program for their employees and to maintain records associated with this training.

DATES: Send your comments by September 4, 2018.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0021, Flight Training for Aliens and Other Designated Individuals; Security Awareness Training for Flight School Employees, 49 CFR part 1552. Under 49 CFR part 1552, TSA conducts security threat assessments for all aliens and other designated individuals seeking flight instruction with Federal Aviation Administration (FAA)-certified flight training providers.¹ The purpose of this requirement is to ensure flight training candidates do not pose a threat to aviation or national security and thus permitted to receive flight training. The collection of information required under 49 CFR part 1552 includes candidates' biographic information and fingerprints, which TSA uses to perform the security threat assessment.

¹ See also 49 U.S.C. 44939.

Additionally, flight training providers are required to maintain records of security awareness training provided to their employees. See subpart B of 49 CFR part 1552. This training, which is intended to increase awareness of suspicious circumstances and activities of individuals enrolling in, or attending, flight training, must be provided to certain employees within 60 days of being hired and on an annual recurring basis. The flight training providers must maintain records of the training completed throughout the course of the individual's employment, and for one year after the individual is no longer a flight training provider employee.²

² In May 2018, TSA published a notice to reopen the comment period on this regulation. See 83 FR 23238 (May 18, 2018). The comment period closed on June 18, 2018. As part of the notice, TSA specifically requested ways to reduce the burden of recordkeeping.

Based on the numbers of respondents to date, TSA estimates a total of 71,600 respondents annually: 53,900 candidate training requests, 5,600 flight training providers' candidates and employee records and an additional 12,100 flight training providers' employee records. Respondents are required to provide the subject information every time an alien or other designated individual applies for pilot training as described in the regulation. TSA estimates an average of 45 minutes to complete each application, for a total approximate application burden of 40,425 hours per year. Flight training providers must keep records for each flight training candidate for five years from the time they are created. TSA estimates an average of 5 minutes per training record, for a total approximate recordkeeping hour burden of 4,492 hours. TSA estimates an average of 5 minutes per record of security awareness training of flight school employees, for a total approximate recordkeeping hour burden of 5,750 hours. Thus, TSA estimates the combined hour burden associated with this collection to be 50,667 hours annually.

Dated: June 28, 2018.
Christina A. Walsh,
TSA Paperwork Reduction Act Officer, Office of Information Technology.

[FR Doc. 2018-14482 Filed 7-5-18; 8:45 am]

BILLING CODE 9110-05-P